DEPARTMENT OF EDUCATION

Withdrawal of Notices Inviting Applications for New Awards for Fiscal Year (FY) 2011; European Union-United States Atlantis (Atlantis) Program, et al.

AGENCY: Office of Postsecondary Education, Department of Education.

ACTION: Notice.

Overview Information:

CFDA No. 84.116J, 84.116M, and 84.116N.

Withdrawal of Notices inviting applications for new awards for Fiscal Year (FY) 2011; European Union-United States Atlantis (Atlantis) Program; U.S.-Brazil Higher Education Consortia (U.S.-Brazil) Program; and the North American Mobility in Higher Education (NAM) Program.

SUMMARY: On April 1, 2011 (76 FR 18198) (Atlantis); March 29, 2011 (76 FR 17391) (U.S.-Brazil); and March 25, 2011 (76 FR 16743) (NAM), the Department published in the Federal Register notices inviting applications for new awards for each of the programs identified. On April 15, 2011, the President signed Public Law 112-10, the Department of Defense and Full-Year Continuing Appropriations Act, 2011, which substantially reduced funds available for the Department's Higher Education account. This account is the source of funding for grants in these programs under the Fund for the Improvement of Postsecondary Education. Therefore, no new grants will be made under the Atlantis, U.S.-Brazil, or NAM programs in FY 2011. As such, the Department withdraws these notices inviting applications for new awards for FY 2011.

Program Authority: 20 U.S.C. 1138-1138d.

FOR FURTHER INFORMATION CONTACT: For information on Atlantis, International and Foreign Language Education (IFLE): Tanyelle Richardson, U.S. Department of Education, 1990 K Street, NW., room 6099, Washington, DC 20006-8521. Telephone: (202) 502-7626 or by e-mail: tanyelle.richardson@ed.gov.

For information on U.S.-Brazil, IFLE: Michelle Guilfoil, U.S. Department of Education, 1990 K Street, NW., room 6098, Washington, DC 20006-8521. Telephone: (202) 502-7625 or by e-mail: michelle.guilfoil@ed.gov.

For information on NAM, IFLE: Amy Wilson, U.S. Department of Education, 1990 K Street, NW., room 6082, Washington, DC 20006-8521. Telephone: (202) 502-7689 or by e-mail: amy.wilson@ed.gov.

Accessible Format: Individuals with disabilities can obtain this document in an accessible format (e.g., braille, large print, audiotape, or computer diskette) by contacting one of the persons listed under the FOR FURTHER INFORMATION CONTACT section of this notice. Telephone: (202) 245-7363. If you use a telecommunications device for the deaf, call the Federal Relay Service, toll free, at 1-800-877-8339.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: http://www.federalregister.gov. Specifically, through the advanced search feature at this site, you can limit your search to documents published by the Department.

Dated: July 18, 2011.
Eduardo M. Ochoa,
Assistant Secretary for Postsecondary Education.

[FR Doc. 2011-18450 Filed 7-20-11; 8:45 am]

BILLING CODE 4000-01-P